Proclamation 10360 of March 31, 2022

National Donate Life Month, 2022

By the President of the United States of America

A Proclamation

Today, more than 100,000 men, women, and children in the United States need a life-saving organ transplant. In many cases, an organ donation provides another chance to live a full life. For those waiting for that gift of life—the uncertainty can be excruciating, exacting a physical and emotional toll on the potential recipient and their loved ones. During National Donate Life Month, we give thanks to the families and friends of donors who have supported their loved one's decision to save lives by donating; we show our appreciation for the professionals who serve the transplantation community; and we encourage Americans who can to become organ, eye, tissue, marrow, and blood donors. In so doing, we honor those who have given this most extraordinary of gifts.

Last year, because of the charity and generosity of the American people, our Nation's transplant experts performed more than 41,000 organ transplants—a record number. We saw organ donations from deceased donors set an annual record for the 11th consecutive year. Living donor transplants, which decreased significantly in 2020 due to the COVID-19 pandemic, increased with over 6,500 living donor transplants performed.

Despite our progress, our Nation continues to face a critical shortage of organ donors, and the number of people in need of a transplant is high, with 17 people dying every day while waiting for a transplant. Today's transplant waitlist also includes more than 1,900 children under the age of 18 awaiting the gift of life. That is why during National Donate Life Month, we also recognize National Pediatric Transplant Week from April 24-30, a period dedicated to ending the pediatric transplant waiting list.

Waitlist data shows that people of color make up nearly 60 percent of individuals awaiting an organ transplant. To increase access to transplantation for everyone, we recommit to promoting greater diversity in organ donation, as we continue to advance health equity for all communities, including those that have gone underserved, across our Nation.

Every year, nearly 18,000 people in America are diagnosed with life-threatening blood cancers or other diseases for which a blood stem cell transplant may be their best or only hope for a cure. Approximately 70 percent of these individuals need donors from outside their families. Although nearly 23 million adults in the United States are currently registered as blood stem cell donors, we need more registrants to help the many individuals who still have difficulty finding a suitably matched donor.

During National Donate Life Month, we thank the millions of individuals across America who are living or registered organ donors. We recognize and commend the researchers, advocates, volunteers, and medical professionals working to reduce the number of people awaiting vital organ transplants. Our Nation applauds the therapeutic innovations that have decreased rates of organ rejection and have extended the lifespan of transplanted organs.

While transplantation continues to increase substantially and meet the needs of many people with organ failure, we must continue our efforts to shorten the waiting list and encourage organ donation. If you have not signed up as an organ donor, we can use your help. I encourage every American to help people in need by visiting organdonor.gov for organ, eye, and tissue donation, and bloodstemcell.hrsa.gov for marrow and blood donation.

NOW, THEREFORE, I, JOSEPH R. BIDEN JR., President of the United States of America, by the authority vested in me by the Constitution and the laws of the United States, do hereby proclaim April 2022 as National Donate Life Month. I call upon every person who can to share the gift of life and hope by becoming organ, eye, tissue, marrow, and blood donors.

IN WITNESS WHEREOF, I have hereunto set my hand this thirty-first day of March, in the year of our Lord two thousand twenty-two, and of the Independence of the United States of America the two hundred and forty-sixth.

[FR Doc. 2022-07274

Filed 4-4-22; 8:45 am]

Billing code 3395-F2-P